DEPARTMENT OF COMMERCE

National Oceanic and Atmospheric Administration

RIN 0648-XB161

Marine Mammals; File No. 16992

AGENCY: National Marine Fisheries Service (NMFS), National Oceanic and Atmospheric Administration (NOAA), Commerce.

ACTION: Notice; issuance of permit.

SUMMARY: Notice is hereby given that a permit has been issued to Paul Nachtigall, Ph.D., Hawaii Institute of Marine Biology, University of Hawaii, P.O. Box 1106, Kailua, HI 96734 to conduct research on captive cetaceans.

ADDRESSES: The permit and related documents are available for review upon written request or by appointment in the following offices:

Permits and Conservation Division, Office of Protected Resources, NMFS, 1315 East-West Highway, Room 13705, Silver Spring, MD 20910; phone (301)427-8401; fax (301)713-0376; and

Pacific Islands Region, NMFS, 1601 Kapiolani Blvd., Room 1110, Honolulu, HI 96814-4700; phone (808)944-2200; fax (808)973-2941.

FOR FURTHER INFORMATION CONTACT: Amy Sloan or Jennifer Skidmore, (301)427-8401.

SUPPLEMENTARY INFORMATION: On April 9, 2013, notice was published in the Federal Register (78 FR 21112) that a request for a permit to conduct research on captive cetaceans had been submitted by the above-named applicant. The requested permit has been issued under the authority of the Marine Mammal Protection Act of 1972, as amended (16 U.S.C. 1361 et seq.); and the regulations governing the taking and importing of marine mammals (50 CFR part 216).

Permit No. 16992 authorizes research on basic hearing and echolocation in three bottlenose dolphins (Tursiops truncatus) and one false killer whale (Pseudorca crassidens) maintained in captivity at the Hawaii Institute of Marine Biology in Kaneohe, Hawaii. Researchers will conduct hearing measurements using suction cup sensors to monitor electrical signals in the brain in response to sound and echolocation clicks. Temporary threshold shift experiments will be conducted on one adult male bottlenose dolphin. The research is accomplished using trained behaviors in which the animals voluntarily participate and can leave the testing area at any time.

In compliance with the National Environmental Policy Act of 1969 (42 U.S.C. 4321 et seq.), a final determination has been made that the activity proposed is categorically excluded from the requirement to prepare an environmental assessment or environmental impact statement.

Dated: July 12, 2013.
P. Michael Payne,
Chief, Permits and Conservation Division, Office of Protected Resources, National Marine Fisheries Service.

[FR Doc. 2013-17173 Filed 7-17-13; 8:45 am]

BILLING CODE 3510-22-P